DEPARTMENT OF JUSTICE

Antitrust Division

Notice Pursuant to the National Cooperative Research and Production Act of 1993—Telemanagement Forum

Notice is hereby given that, on January 22, 2013, pursuant to Section 6(a) of the National Cooperative Research and Production Act of 1993, 15 U.S.C. 4301 et seq. (“the Act”), TeleManagement Forum (“The Forum”) has filed written notifications simultaneously with the Attorney General and the Federal Trade Commission disclosing changes in its membership. The notifications were filed for the purpose of extending the Act's provisions limiting the recovery of antitrust plaintiffs to actual damages under specified circumstances. Specifically, the following parties have been added as members to this venture: 4GOSS, Gatineau, CANADA; AAPT Limited, Sydney, AUSTRALIA; ABIS & Associates, Chessington, UNITED KINGDOM; Agama Technologies, Linköping, SWEDEN; ARSAT, Buenos Aires, ARGENTINA; Boliviatel S.A., Cochabamba, BOLIVIA; Caribbean Knowledge & Learning Network (CKLN), St George's, GRENADA; ClickSoftware, Inc., Burlington, MA; CODIX USA, Atlanta, GA; Concordus Applications Inc, Sacramento, CA; Delta Partners, Dubai, UNITED ARAB EMIRATES; Digicel Fiji, Suva, FIJI; George Mason University, Fairfax, VA; i Engineering Group, Accra, GHANA; Incoma, Moscow, RUSSIA; International Software Techniques, Athens, GREECE; Japan Mobile Platform, Tokyo, JAPAN; Latin American Byte, Inc., Wickhams Cay I—Road Town, VIRGIN ISLANDS (BRITISH); LIRIS Lab (Personne Morale), Villeurbanne Cédex, FRANCE; MEASAT Broadcast Network Systems Sdn Bhd (MBNS—Astro), Bukit Jalil, MALAYSIA; MicroNova AG, Vierkirchen, GERMANY; Mobinil—The Egyptian Company for Mobile Services, Cairo, EGYPT; ms-CNS Communication Network Solutions GmbH, Vienna, AUSTRIA; Network Laboratory, Department of Information and Communication Engineering, The University of Tokyo, Tokyo, JAPAN; New Generation Management Consulting Pty Ltd, Rivonia, SOUTH AFRICA; Onesto Services Oy, Jyvaskyla, FINLAND; Orange System Group, St.Petersburg, RUSSIA; Osaka University, Osaka, JAPAN; Pictor Consulting, Danderyd, SWEDEN; Seconda Universita' di Napoli—Dipartimento di Ingegneria Industriale e dell' Informazione, Aversa (CE), ITALY; Sitronics Telecom Solutions Co. (Pvt.) Ltd, Lahore, PAKISTAN; Speedy Movil Servicios SA De CV, Delegacion Miguel Hidalgo, MEXICO; T2 Yazılım Ltd. Şti., Ankara, TURKEY; Technical University of Sofia—Department of Communications Networks, Sophia, BULGARIA; TECNOCOM, Madrid, SPAIN; Telcocell, Broomfield, CO; Telefonica Moviles SA, Lima, PERU; Terminus Technologies Pvt. Limited, Ras Al Khaimah, UNITED ARAB EMIRATES; The Open University, Milton Keynes, UNITED KINGDOM; The Rural Link, Calgary, CANADA; TMSConsult.net, Kuala Lumpur, MALAYSIA; Ultrapower Software Co., Ltd, Beijing, PEOPLE'S REPUBLIC OF CHINA; Universidad del Cauca, Cauca, COLOMBIA; Universita degli Studi di Milano, Crema, ITALY; University of Colorado School of Law, Boulder, CO; VIA FERRATA, Hasselt, BELGIUM; Videotron G.P., Montreal, CANADA; Visa, San Francisco, CA; Vulliens Group snc, Lausanne, SWITZERLAND.

The following members have changed their names: Nato C3 Agency to NATO Communications and Information Agency, The Hague, NETHERLANDS; OOCorp to ultraBASE, Miami, FL; SMI Telecoms LLC to Quindell Telecoms, London, UNITED KINGDOM; Northrop Grumman Corporation—(Information Systems, Defense Enterprise Solutions) to Northrop Grumman Systems Corporation, acting through its Northrop Grumman Information Systems Sector, Defense Technologies Division, McLean, VA; Net Servicos to Net Servicos—Membership, Chacara Santo Antonio, BRAZIL; China Communication Service Application and Solution Technology Co., Ltd. to China Comservice Software Technology Co., Ltd., Beijing, PEOPLE'S REPUBLIC OF CHINA.

The following members have withdrawn as parties to this venture: Istanbul Bilgi University, Istanbul, TURKEY; 3Consulting, Lagos, NIGERIA; A.S.T.R.I.D. SA/NV, Brussels, BELGIUM; ABHIDEEP LTD, Kidlington, UNITED KINGDOM; Aircel Limited, Gurgaon, INDIA; Al-Quds College, Amman, JORDAN; Astramind Consulting Pvt. Ltd., Pune, INDIA; BridgeWorks, Haarlem, NETHERLANDS; Broadband Infraco (Pty) Ltd, Johannesburg Gauteng, SOUTH AFRICA; BroadHop, Inc., Denver, CO; CanGo Networks Private Ltd, Chennai, INDIA; Council for Scientific and Industrial Research (CSIR), Pretoria, SOUTH AFRICA; Cycle Computing, Greenwich, CT; Deutsche Bank, New York, NY; Enghouse Networks Limited, Markham, CANADA; Focus Consulting Services bvba, Sint-Truiden, BELGIUM; iGate Patni, Fremont, CA; Inca Informatics Pvt. Ltd, Noida, INDIA; ING Bank N.V., Amsterdam, NETHERLANDS; IOQB Nordic AB, Karlskrona, SWEDEN; IS Governance and Assurance Training (Pty) Ltd., Groenkloof, SOUTH AFRICA; KPMG International, Amstelveen, NETHERLANDS; Lockheed Martin Corporation, Bethesda, MD; London School of Economics, LSE Network Economy Forum, London, UNITED KINGDOM; NASA JPL, Pasadena, CA; Network Critical, LLC, Buffalo, NY; NeuString FZE, Dubai, UNITED ARAB EMIRATES; Praesidium, Reading, UNITED KINGDOM; RAD Data Communications ltd, Tel Aviv, ISRAEL; Saudi eGovernment Program, Riyadh, SAUDI ARABIA; Selex Elsag, Genova, ITALY; SolveDirect Service Management, Inc., Sunnyvale, CA; Tango Telecom Ltd, Limerick, IRELAND; and ThomsonReuters, New York, NY.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on October 31, 2012. A notice was published in the Federal Register pursuant to Section 6(b) of the Act on December 21, 2012 (77 FR 75663).

Patricia A. Brink,
Director of Civil Enforcement, Antitrust Division.

[FR Doc. 2013-04069 Filed 2-21-13; 8:45 am]

BILLING CODE P